DEPARTMENT OF HOMELAND SECURITY

Federal Emergency Management Agency

[Docket ID FEMA-2013-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of April 16, 2013 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and ninety (90) days have elapsed since that publication. The Deputy Associate Adminstrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

Community | Community map repository address
Suwannee County, Florida, and Incorporated Areas
Docket No.: FEMA-B-1239
City of Live Oak | City Hall, 101 White Oak Avenue Southeast, Live Oak, FL 32064.
Unincorporated Areas of Suwannee County | Suwannee County Courthouse, County Coordinator's Office, 200 Ohio Avenue South, Live Oak, FL 32064.
Pottawattamie County, Iowa, and Incorporated Areas
Docket No.: FEMA-B-1242
City of Avoca | City Hall, 201 North Elm Street, Avoca, IA 51521.
City of Carson | City Hall, 316 South Commercial Street, Carson, IA 51525.
City of Council Bluffs | City Hall, 209 Pearl Street, Room 207, Council Bluffs, IA 51503.
City of Hancock | City Hall, 202 North Main Street, Hancock, IA 51536.
City of Macedonia | City Hall, 322 Main Street, Macedonia, IA 51549.
City of Minden | City Hall, 207 Main Street, Minden, IA 51553.
City of Neola | City Hall, 105 3rd Street, Neola, IA 51559.
City of Oakland | City Hall, 101 North Main Street, Oakland, IA 51560.
City of Treynor | City Hall, 7 South Eyeberg Avenue, Treynor, IA 51575.
City of Underwood | City Hall, 218 2nd Street, Underwood, IA 51576.
City of Walnut | City Hall, 229 Antique City Drive, Walnut, IA 51557.
Unincorporated Areas of Pottawattamie County | Pottawattamie County Courthouse, 227 South 6th Street, Council Bluffs, IA 51501.
Lewis County, Kentucky, and Incorporated Areas
Docket No.: FEMA-B-1238
City of Concord | City Hall, 12913 West KY-8, Vanceburg, KY 41179.
City of Vanceburg | Visitors Center, 151 3rd Street, Vanceburg, KY 41179.
Unincorporated Areas of Lewis County | Lewis County Emergency Management Annex, 36 Court Street, Vanceburg, KY 41179.
Mason County, Kentucky, and Incorporated Areas
Docket No.: FEMA-B-1239
City of Dover | City Hall, 2060 Lucretia Street, Dover, KY 41034.
City of Maysville | City Hall, 216 Bridge Street, Maysville, KY 41056.
Unincorporated Areas of Mason County | Maysville City Hall, 216 Bridge Street, Maysville, KY 41056.
Pike County, Kentucky, and Incorporated Areas
Docket No.: FEMA-B-1246
City of Coal Run Village | Coal Run Village City Hall, 81 Church Street, Pikeville, KY 41501.
City of Pikeville | City Hall, 118 College Street, Pikeville, KY 41501.
Unincorporated Areas of Pike County | Pike County Courthouse, 146 Main Street, Pikeville, KY 41501.

(Catalog of Federal Domestic Assistance No. 97.022, “Flood Insurance.”)

James A. Walke,
Acting Deputy Associate Administrator for Mitigation, Department of Homeland Security, Federal Emergency Management Agency.

[FR Doc. 2013-01629 Filed 1-25-13; 8:45 am]

BILLING CODE 9110-12-P